DEPARTMENT OF THE INTERIOR

Fish and Wildlife Service

[Docket No. FWS-HQ-IA-2025-0374; FXIA16710900000-256-FF09A30000]

Emergency Exemption: Issuance of Emergency Permit To Import Endangered Species

AGENCY: Fish and Wildlife Service, Interior.

ACTION: Notice of issuance of permit.

SUMMARY: We, the U.S. Fish and Wildlife Service, have waived the 30-day public notice period and have issued an endangered species permit for import of five tigers (Panthera tigris). We issue this permit under the Endangered Species Act and the Convention on International Trade in Endangered Species of Wild Fauna and Flora.

ADDRESSES: Materials pertaining to the permit application are available by submitting a Freedom of Information Act (FOIA) request to the Service's FOIA office at https://www.doi.gov/foia/foia-request-form.

FOR FURTHER INFORMATION CONTACT: Brenda Tapia, by phone at 703-358-2104 or via email at DMAFR@fws.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have issued an emergency permit to conduct certain activities with the endangered tigers (Panthera tigris) in response to a permit application that we received under the authority of section 10(a)(1)(A) of the Endangered Species Act of 1973 (ESA; 16 U.S.C. 1531 et seq.).

We issued the requested permit subject to certain conditions set forth in the permit. For the application, we found that (1) the application was filed in good faith, (2) the granted permit would not operate to the disadvantage of the endangered species, and (3) the granted permit would be consistent with the purposes and policy set forth in section 2 of the ESA.

Permit Issued Under Emergency Exemption
Permit No. | Applicant | Permit issuance date
PER21349374 | Carolina Tiger Rescue | July 14, 2025.

The Carolina Tiger Rescue requested a permit to import five live tigers from Honduras due to deteriorating conditions in the animal's current enclosures and the lack of available permanent spaces to house these animals in Honduras. After assessing the situation facing partner organizations in Honduras, the Service determined that an emergency affecting the lives of these animals existed, and that no reasonable alternative was available to the applicant.

On July 14, 2025, the Service issued permit no. PER21349374 to the Carolina Tiger Rescue, to import five tigers for the purpose of enhancement of the survival of the species.

Authority

We issue this notice under the authority of the Endangered Species Act of 1973, as amended (16 U.S.C. 1531 et seq.), and its implementing regulations.

Timothy MacDonald,
Government Information Specialist, Branch of Permits, Division of Management Authority.

[FR Doc. 2025-16579 Filed 8-28-25; 8:45 am]

BILLING CODE 4333-15-P